DEPARTMENT OF DEFENSE

Department of the Air Force

Request for Public Comment of Draft Preliminary Proposed Interface Revision (PPIRN) to L5 Civil Signal Interface Specification (IS)

AGENCY: Department of the Air Force, DoD.

ACTION: Notice and request for review/comment of draft PPIRN-705-001.

SUMMARY: This notice informs the public that the Global Positioning System (GPS) Joint Program Office (JPO) has released the current draft of PPIRN-705-001 dated 23 Oct 03 to IS-GPS-705, Navstar GPS Space Segment/User Segment L5 Interfaces, for public review and comment. This PPIRN describes the improved clock and ephemeris (ICE) message for L5, a signal to be incorporated into the GPS system for the benefit of the civilian community. The draft PPIRN can be reviewed at the following Web site: http://gps.losangeles.af.mil. Click “System Engineering,” then click “Public Interface Control Working Group (ICWG)”. Hyperlinks to the PPIRN and review instructions are provided. The reviewer should save the PPIRN to a local memory location prior to opening and performing the review. All comments and their resolutions will be posted to the Web site.

ADDRESSES: Submit comments to SMC/GPERC, 2420 Vela Way, Suite 1467, El Segundo CA 90245-4659. A comment matrix is provided for your convenience at the web site and is the preferred method of comment submittal. Comments may be submitted to the following Internet address: smc.gperc@losangeles.af.mil. Comments may also be sent by fax to 1-310-363-6387.

DATES: The suspense date for comment submittal is December 12, 2003.

FOR FURTHER INFORMATION CONTACT: GPERC, GPS JPO System Engineering Division at 1-310-363-2883, or write to the address above.

SUPPLEMENTARY INFORMATION: The civilian and military communities use the Global Positioning System, which employs a constellation of 24 satellites to provide continuously transmitted signals to enable appropriately configured GPS user equipment to produce accurate position, navigation and time information.

Pamela D. Fitzgerald,
Air Force Federal Register Liaison Officer.

[FR Doc. 03-28332 Filed 11-10-03; 8:45 am]

BILLING CODE 5001-05-P